DEPARTMENT OF HEALTH AND HUMAN SERVICES

Centers for Disease Control and Prevention

Board of Scientific Counselors, National Center for Injury Prevention and Control (BSC/NCIPC); Cancellation of Meeting

Notice is hereby given of a change in the meeting of the Board of Scientific Counselors, National Center for Injury Prevention and Control (BSC/NCIPC); April 30, 2020, 12:30 p.m.-03:50 p.m. EDT; which was published in the Federal Register on March 25, 2020, Volume 85, Number 58, page/s/16945-16946.

This meeting is being cancelled in its entirety due to the response activities associated with the COVID-19 pandemic. The planned agenda items for the April meeting will be included for discussion in a meeting being rescheduled for this summer. We will provide updated information in a future Federal Register Notice.

FOR FURTHER INFORMATION CONTACT: Gwendolyn H. Cattledge, Ph.D., MSEH, Deputy Associate Director for Science, NCIPC, CDC, 4770 Buford Highway, NE, Mailstop S106-9, Atlanta, Georgia 30341; telephone (770) 488-3953; email address: NCIPCBSC@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-09051 Filed 4-28-20; 8:45 am]

BILLING CODE 4163-18-P